DEPARTMENT OF COMMERCE

National Oceanic and Atmospheric Administration

50 CFR Part 648

[Docket No. 060901235-6235-01; I.D. 082406C]

RIN 0648-AQ87

Fisheries of the Northeastern United States; Amendment 1 to the Atlantic Herring Fishery Management Plan; Correction

AGENCY: National Marine Fisheries Service (NMFS), National Oceanic and Atmospheric Administration (NOAA), Commerce.

ACTION: Proposed rule; request for comments; correction.

SUMMARY: On September 27, 2006, NMFS published the proposed rule for Amendment 1 to the Atlantic Herring Fishery Management Plan (Amendment 1) incorporating the Final Environmental Impact Statement, Regulatory Impact Review, and the Initial Regulatory Flexibility Analysis, for Secretarial review and requested comments from the public. The proposed rule contains an error in the ADDRESSES caption regarding the email address for submitting comments regarding the burden-hour estimates and other aspects of the collection-of-information requirements. This document corrects that error.

FOR FURTHER INFORMATION CONTACT: Eric Jay Dolin, Fishery Policy Analyst, (978) 281- 9259, fax (978) 281- 9135.

SUPPLEMENTARY INFORMATION: The proposed rule for Amendment 1 to the Atlantic Herring Fishery Management Plan was published in the Federal Register on September 27, 2006 (71 FR 56446), with public comment accept through November 13, 2006. The e-mail address under the ADDRESSES caption was misspelled for the comments regarding the burden of hour estimates or other aspects of the collection-of-information requirements. This document corrects that error.

In proposed rule FR Doc. 06-8263, on page 56447 of the September 27, 2006, issue of the Federal Register, make the following correction under the ADDRESSES caption:

In column 1, remove the e-mail address for “David_Rotsker@omb.eop.gov” in the next to last line of the ADDRESSES caption and add in its place “David_Rostker@omb.eop.gov”.

Authority: 16 U.S.C. 1801 et seq.

Dated: October 12, 2006.
Samuel D. Rauch III,
Deputy Assistant Administrator for Regulatory Programs, National Marine Fisheries Service.

[FR Doc. E6-17239 Filed 10-16-06; 8:45 am]

BILLING CODE 3510-22-S